DEPARTMENT OF HOMELAND SECURITY

Transportation Security Administration

Intent To Request Renewal From OMB of One Current Public Collection of Information: Law Enforcement Officer Flying Armed Training

AGENCY: Transportation Security Administration, DHS.

ACTION: 60-day notice.

SUMMARY: The Transportation Security Administration (TSA) invites public comment on one currently approved Information Collection Request (ICR), Office of Management and Budget (OMB) control number 1652-0034, abstracted below that we will submit to OMB for renewal in compliance with the Paperwork Reduction Act (PRA). The ICR describes the nature of the information collection and its expected burden. The collection involves the Federal Air Marshal Service (FAMS) maintenance of a database of all Federal, State and local law enforcement agencies that have received the Law Enforcement Officer (LEO) Flying Armed Training course.

DATES: Send your comments by April 13, 2015.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A.Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) evaluate the accuracy of the agency's estimate of the burden;

(3) enhance the quality, utility, and clarity of the information to be collected; and

(4) minimize the burden of the collection of information on those who are to respond, including using appropriate automated, electronic, mechanical, or other technological collection techniques or other forms of information technology.

Information Collection Requirement

OMB Control Number 1652-0034; Law Enforcement Officer Flying Armed Training. TSA is requesting approval for the renewal of the collection of this information to comply with 49 CFR 1544.219, which requires Federal LEOs, full-time territorial, tribal, municipal, county or state LEOs who are direct employees of government agencies, and authorized railroad police officers to complete the LEOs Flying Armed training course in order to fly armed. The course is a non-tactical overview of the conditions under which an officer may fly armed and the required conduct and duties of the LEO while flying armed. This collection permits TSA to collect identifying information from law enforcement agencies requesting the LEO Flying Armed training course.

Information is gathered from law enforcement agencies who have requested the LEO Flying Armed training course. The information is gathered to confirm that the agencies are eligible for this program (i.e., that they are active law enforcement agencies whose officers have an operational need to fly armed). Law enforcement agencies are required to contact the TSA/FAMS via phone or email and provide the full name of the agency's designated point of contact, agency name, agency address, telephone number, and email address to obtain the LEO Flying Armed training course. The FAMS maintain a record of law enforcement agencies and their point of contact that have received the training materials. If an issue arises during the screening and verification process regarding the authenticity of an agency that requests training materials, no training materials will be supplied until that issue has either been confirmed or resolved and a record of such is maintained.

Upon completion of the training, the LEO who has been authorized by his or her agency to fly armed presents his or her credentials and other required documentation at the airport in order to fly armed. A Transportation Security Officer verifies all pertinent information onsite. Based on current data, TSA estimates there are approximately 2,000 respondents on an annual basis. At most, each agency spends approximately 5 minutes to provide the information TSA needs to confirm the law enforcement agencies are eligible to receive the training. This amounts to 2000 agencies multiplied by 5 minutes equals 166.6 hours (2000 agencies × 5 min = 10,000 min [166.6 hrs.]) for a total annual hour burden of 167 hours.

Dated: February 5, 2015.
Christina A. Walsh,
TSA Paperwork Reduction Act Officer, Office of Information Technology.

[FR Doc. 2015-02830 Filed 2-10-15; 8:45 am]

BILLING CODE 9110-05-P